ENVIRONMENTAL PROTECTION AGENCY

40 CFR Part 52

[IN133-1b; FRL-6990-2]

Approval and Promulgation of Implementation Plans; IN

AGENCY: Environmental Protection Agency (EPA).

ACTION: Proposed rule.

SUMMARY: The EPA is proposing to approve revisions to particulate matter (PM) regulations for Rolls-Royce Allison (Rolls-Royce), formerly Allison Engine Company. This facility is located in Marion County, Indiana. The Indiana Department of Environmental Management (IDEM) submitted the revised regulations on August 31, 2000 as a requested amendment to its State Implementation Plan (SIP). The revisions consist of a name change for the company and the addition of a provision that allows the facility to use landfill gas as an alternate fuel. These requested SIP revisions do not change Rolls-Royce's emissions limits.

DATES: The EPA must receive written comments on this proposed rule by July 12, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What actions are EPA taking today?

II. Where can I find more information about this proposal and the corresponding direct final rule?

I. What Actions Are EPA Taking Today?

The EPA is proposing to approve revisions to the particulate matter regulations for Rolls-Royce Allison in Marion County, Indiana. IDEM submitted the revised regulation on August 31, 2000 as amendments to its SIP.

The revisions are a name change for the company and the addition of landfill gas as an alternate fuel. These SIP revisions result in no increase of particulate matter emissions.

II. Where Can I Find More Information About This Proposal and the Corresponding Direct Final Rule?

For additional information see the direct final rule published in the rules section of this Federal Register.

Dated: May 9, 2001.
Norman Neidergang,
Acting Regional Administrator, Region 5.

[FR Doc. 01-14611 Filed 6-11-01; 8:45 am]

BILLING CODE 6560-50-P